SECURITIES AND EXCHANGE COMMISSION

[Release No. 34-60322; File No. SR-NYSEArca-2009-68]

Self-Regulatory Organizations; NYSE Arca, Inc.; Notice of Filing and Immediate Effectiveness of Proposed Rule Change Implementing the Schedule of Fees and Charges for Exchange Services

July 16, 2009.

Pursuant to Section 19(b)(1) ¹ of the Securities Exchange Act of 1934 (the “Act”) ² and Rule 19b-4 thereunder,³ notice is hereby given that, on July 10, 2009, NYSE Arca, Inc. (“NYSE Arca” or the “Exchange”) filed with the Securities and Exchange Commission (the “Commission”) the proposed rule change as described in Items I, II, and III below, which Items have been prepared by the self-regulatory organization. NYSE Arca filed the proposal pursuant to Section 19(b)(3)(A) ⁴ of the Act and Rule 19b-4(f)(2) ⁵ thereunder. The Commission is publishing this notice to solicit comments on the proposed rule change from interested persons.

¹ 15 U.S.C. 78s(b)(1).

² 15 U.S.C. 78a.

³ 17 CFR 240.19b-4.

⁴ 15 U.S.C. 78s(b)(3)(A).

⁵ 17 CFR 240.19b-4(f)(2).

I. Self-Regulatory Organization's Statement of the Terms of Substance of the Proposed Rule Change

The Exchange proposes to amend the Schedule of Fees and Charges for Exchange Services (the “Schedule”). While changes to the Schedule pursuant to this proposal will be effective upon filing, the changes will become operative on July 13, 2009. A copy of this filing is available on the Exchange's Web site at http://www.nyse.com, at the Exchange's principal office and at the Commission's Public Reference Room.

II. Self-Regulatory Organization's Statement of the Purpose of, and Statutory Basis for, the Proposed Rule Change

In its filing with the Commission, the self-regulatory organization included statements concerning the purpose of, and basis for, the proposed rule change and discussed any comments it received on the proposed rule change. The text of those statements may be examined at the places specified in Item IV below. The Exchange has prepared summaries, set forth in sections A, B, and C below, of the most significant parts of such statements.

A. Self-Regulatory Organization's Statement of the Purpose of, and Statutory Basis for, the Proposed Rule Change

1. Purpose

On June 30, 2009 the Exchange filed with the Commission a rule change adding four new Self Trade Prevention (“STP”) Modifiers.⁶ The new STP functionality allows Equity Trading Permit (“ETP”) Holders entering orders into the system to elect to prevent those orders from executing against other orders entered into the System by the same ETP Holder. Pursuant to this proposal the Exchange seeks to add to the Schedule a credit and fee for orders returned to an ETP Holder using the STP Modifiers.

⁶ See Securities and Exchange Act Release No. 60191 (June 30, 2009), 74 FR 32660 (July 8, 2009)(Notice of Filing and Immediate Effectiveness for NYSEArca-2009-58).

ETP Holders entering an incoming order with either the STP Cancel Both (“STPC”) or the STP Decrement and Cancel (“STPD”) Modifier will be charged $0.0030 per share for orders returned to the ETP Holder. The ETP Holders [sic] corresponding resting order marked with any of the STP Modifiers that interacts with an incoming STPC or STPD Modifier will be credited $0.0029 per share for orders returned to the ETP Holder. ETP Holders entering an incoming order with either the STP Cancel Newest (“STPN”) or the STP Cancel Oldest (“STPO”) Modifier will not be credited or charged any fees. Similar to the way in which STP Modifiers interact, the incoming order with an STP Modifier controls the fees charged.

Example 1:

—A STPN (or STPO) Order is entered by an ETP Holder and is resting in the NYSE Arca Book.

—A STPC (or STPD) Order is subsequently entered by the same ETP Holder and is marketable against the STPN (or STPO) Order.

—The ETP Holder is credited $0.0029 per share for the resting STP Order and charged $0.0030 per share for the incoming STPC (or STPD) Order.

Example 2:

—A STPC (or STPD) Order is entered by an ETP Holder and is resting in the NYSE Arca Book [sic].

—A STPN (or STPO) Order is subsequently entered by the same ETP Holder and is marketable against the STPC (or STPD) Order.

—The ETP Holder is not credited or charged a fee for either order returned back to the ETP Holder.

On incoming orders marked with the STPD Modifier, both orders will be cancelled back to the ETP Holder if the orders are equivalent in size. If the orders are not equivalent in size, the equivalent size will be cancelled back to the ETP Holder and the larger order will be decremented by the size of the smaller order with the balance remaining on the NYSE Arca Book. For billing purposes, only the size of the portion of the orders cancelled back to the ETP Holder will be charged or credited. For example, if an incoming 1000 share STPD Order interacts with a resting 200 share STP Order from the same ETP ID, the ETP Holder will be credited and charged for the 200 shares that were cancelled back.

On incoming orders marked with the STPC Modifier, the entire size of both orders will be cancelled back to ETP Holder. However, for billing purposes, incoming orders marked with the STPC Modifier will only be charged or credited up to the equivalent size of both orders. For example, if an incoming 200 share STPC Order interacts with a resting 1000 share STP Order, the ETP Holder will only be charged and credited for the equivalent size, which is 200 shares. Similarly, if an incoming 1000 share STPC Order interacts with a 200 share resting STP Order, the ETP Holder will only be charged and credited for 200 shares.

The Exchange plans to implement these new fees and credits in conjunction with the implementation of this STP functionality scheduled for July 13, 2009.

2. Statutory Basis

The Exchange believes that the proposed rule change is consistent with the provisions of Section 6 of the Securities Exchange Act of 1934 (the “Act”),⁷ in general, and Section 6(b)(4) of the Act,⁸ in particular, in that it is designed to provide for the equitable allocation of reasonable dues, fees, and other charges among its members and other persons using its facilities.

⁷ 15 U.S.C. 78f(b).

⁸ 15 U.S.C. 78f(b)(4).

B. Self-Regulatory Organization's Statement on Burden on Competition

The Exchange does not believe that the proposed rule change will impose any burden on competition that is not necessary or appropriate in furtherance of the purposes of the Act.

C. Self-Regulatory Organization's Statement on Comments on the Proposed Rule Change Received From Members, Participants, or Others

No written comments were solicited or received with respect to the proposed rule change.

III. Date of Effectiveness of the Proposed Rule Change and Timing for Commission Action

The foregoing proposed rule change is effective upon filing pursuant to Section 19(b)(3)(A) ⁹ of the Act and subparagraph (f)(2) of Rule 19b-4 ¹⁰ thereunder, because it establishes a due, fee, or other charge imposed by NYSE Arca.

⁹ 15 U.S.C. 78s(b)(3)(A).

¹⁰ 17 CFR 240.19b-4(f)(2).

At any time within 60 days of the filing of the proposed rule change, the Commission may summarily abrogate such rule change if it appears to the Commission that such action is necessary or appropriate in the public interest, for the protection of investors, or otherwise in furtherance of the purposes of the Act.

IV. Solicitation of Comments

Interested persons are invited to submit written data, views, and arguments concerning the foregoing, including whether the proposed rule change is consistent with the Act. Comments may be submitted by any of the following methods:

Electronic Comments

• Use the Commission's Internet comment form (http://www.sec.gov/rules/sro.shtml); or

• Send an e-mail to rule-comments@sec.gov. Please include File Number SR-NYSEArca-2009-68 on the subject line.

Paper Comments

• Send paper comments in triplicate to Elizabeth M. Murphy, Secretary, Securities and Exchange Commission, 100 F Street, NE., Washington, DC 20549-1090.

All submissions should refer to File Number SR-NYSEArca-2009-68. This file number should be included on the subject line if e-mail is used. To help the Commission process and review your comments more efficiently, please use only one method. The Commission will post all comments on the Commission's Internet Web site (http://www.sec.gov/rules/sro.shtml). Copies of the submission, all subsequent amendments, all written statements with respect to the proposed rule change that are filed with the Commission, and all written communications relating to the proposed rule change between the Commission and any person, other than those that may be withheld from the public in accordance with the provisions of 5 U.S.C. 552, will be available for inspection and copying in the Commission's Public Reference Room, 100 F Street, NE., Washington, DC 20549, on official business days between the hours of 10 a.m. and 3 p.m. Copies of the filing also will be available for inspection and copying at the principal office of the Exchange. All comments received will be posted without change; the Commission does not edit personal identifying information from submissions. You should submit only information that you wish to make available publicly. All submissions should refer to File Number SR-NYSEArca-2009-68 and should be submitted on or before August 14, 2009.

For the Commission, by the Division of Trading and Markets, pursuant to delegated authority.¹¹
¹¹ 17 CFR 200.30-3(a)(12).
Florence E. Harmon,
Deputy Secretary.

[FR Doc. E9-17632 Filed 7-23-09; 8:45 am]

BILLING CODE 8010-01-P